DEPARTMENT OF ENERGY

Federal Energy Regulatory Commission

[Docket No. CP22-92-000]

Venture Global Calcasieu Pass, LLC; Notice of Schedule for the Preparation of an Environmental Assessment for the Venture Global Plaquemines LNG Uprate Amendment Project

On March 11, 2022, Venture Global Plaquemines LNG, LLC (Plaquemines LNG) filed an application in Docket No. CP22-92-000 requesting an amendment to its Section 3 of the Natural Gas Act authorization granted by the Commission on September 30, 2019 in Docket No. CP17-66-000. The proposed amendment is known as the Venture Global Plaquemines LNG Uprate Amendment Project (Project). Plaquemines LNG's proposed Project would increase the authorized peak liquefaction capacity of the Plaquemines LNG Export Terminal from 24.0 million metric tons per annum (MTPA) to 27.2 MTPA of liquified natural gas (LNG)—or from approximately 1,240 billion cubic feet to 1,405 billion cubic feet per year (gas equivalence).

On March 25, 2022, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA January 6, 2023

90-Day Federal Authorization Decision Deadline ² April 6, 2023

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

This schedule is dependent upon the applicant providing complete responses to information requested by staff in the timeframe identified in staff's environmental information requests. If a schedule change becomes necessary, additional notice will be provided so that the relevant agencies are kept informed of the Project's progress.

Project Description

Plaquemines LNG proposes to increase the Export Terminal's authorized peak liquefaction capacity achievable under optimal conditions from 24.0 MTPA to 27.2 MTPA of LNG. According to Plaquemines LNG, this proposed increase in the peak liquefaction capacity reflects refinements in the conditions and assumptions concerning the maximum potential operations. The requested increase does not involve the construction of any new facilities nor any modification of the previously authorized facilities. There would be no land disturbance required for the Project.

Background

On May 11, 2022, the Commission issued a Notice of Scoping Period Requesting Comments on Environmental Issues for the Proposed Venture Global Plaquemines LNG Uprate Amendment Project. The Notice of Scoping was sent to affected landowners; federal, state, and local government agencies; elected officials; environmental and public interest groups; Native American tribes; other interested parties; and local libraries and newspapers. Comments were filed by the Choctaw Nation of Oklahoma, Louisiana Bucket Brigade, the Deep South Center for Environmental Justice, and Sierra Club, stating concerns with air quality impacts, climate change, environmental justice, and economic impacts. All substantive comments received will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP22-92), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 26, 2022.
Kimberly D. Bose,
Secretary.

[FR Doc. 2022-18947 Filed 8-31-22; 8:45 am]

BILLING CODE 6717-01-P